DEPARTMENT OF COMMERCE

National Oceanic and Atmospheric Administration

50 CFR Part 622

[I.D. 041000E]

RIN 0648-AN39

Fisheries of the Caribbean, Gulf of Mexico, and South Atlantic; Snapper-Grouper Fishery off the Southern Atlantic States; Amendment 12

AGENCY: National Marine Fisheries Service (NMFS), National Oceanic and Atmospheric Administration (NOAA), Commerce.

ACTION: Notice of availability of Amendment 12 to the FMP for the snapper-grouper fishery off the southern Atlantic states; request for comments.

SUMMARY: NMFS announces that the South Atlantic Fishery Management Council (Council) has submitted Amendment 12 to the Fishery Management Plan for the Snapper-Grouper Fishery of the South Atlantic Region (FMP) for review, approval, and implementation by NMFS. Amendment 12 would replace the current emergency rule that addresses overfishing of red porgy and is in accordance with section 305(c)(3)(B) of the Magnuson-Stevens Act. Amendment 12 would implement permanent measures to rebuild the red porgy resource, limit the harvest and possession of red porgy in or from the exclusive economic zone (EEZ) off the southern Atlantic states to specified incidental catch amounts, add to the factors that may be established or modified via the FMP's framework procedure for regulatory adjustments, and modify the snapper-grouper limited access system to allow trip-limited permit transfers among the same vessel owner, regardless of vessel size. Written comments are requested from the public.

DATES: Comments must be received no later than 5 p.m., eastern standard time, on June 19, 2000.

ADDRESSES: Written comments should be sent to Peter Eldridge, Southeast Regional Office, NMFS, 9721 Executive Center Drive N., St. Petersburg, FL 33702. Comments also may be sent via fax to 727-570-5583. Comments will not be accepted if submitted via e-mail or Internet.

Requests for copies of Amendment 12, which includes a final supplemental environmental impact statement, initial regulatory flexibility analysis, regulatory impact review, and a social impact assessment/fishery impact statement may be obtained from the South Atlantic Fishery Management Council, Southpark Building, One Southpark Circle, Suite 306, Charleston, SC 29407-4699; telephone: 843-571-4366; fax: 843-769-4520; e-mail: safmc@noaa.gov.

FOR FURTHER INFORMATION CONTACT: Peter Eldridge, 727-570-5305; fax 727-570-5583; e-mail: peter.eldridge@noaa.gov.

SUPPLEMENTARY INFORMATION: The Magnuson-Stevens Fishery Conservation and Management Act (Magnuson-Stevens Act), as amended by the Sustainable Fisheries Act, requires each Regional Fishery Management Council to submit any FMP or amendment to NMFS for review, and approval, disapproval, or partial approval. The Magnuson-Stevens Act also requires that NMFS, upon receiving an FMP or amendment, immediately publish a document in the Federal Register stating that the amendment is available for public review and comment.

Under Amendment 12, the Council proposes management measures to limit the harvest and possession of red porgy to incidental catches. Specifically, a recreational fisherman would be restricted to one red porgy per day or per trip, whichever is more restrictive. A commercial fisherman would be limited to 50 lb (22.7 kg) per trip during the months of May through December and to one red porgy per day or per trip, whichever is more restrictive, during January through April. The current prohibition on sale of red porgy during March and April would be extended to the months of January through April.

The Council also proposes to clarify that actions taken under the framework procedure regarding essential fish habitat (EFH) and EFH Habitat Areas of Particular Concern may include restrictions on gear and fishing activities.

In addition, the Council proposes to allow a vessel owner who has been issued a trip-limited permit to transfer the permit to another vessel owned by the same entity, regardless of vessel size. This action would ease an administrative burden on vessel owners.

Under Amendment 12, the Council proposes to establish the following measures for red porgy through the FMP's framework procedure: maximum sustainable yield (MSY); optimum yield (OY); maximum fishing mortality threshold, the fishing mortality rate which, if exceeded, constitutes overfishing; minimum stock size threshold, the stock size below which red porgy are overfished; and a stock rebuilding schedule, the period during which the overfished red porgy resource should be rebuilt to a level that will support MSY.

Amendment 12's action which establishes an OY for red porgy does not quantify a specific annual yield or range of yields associated with the spawning biomass that would produce OY. NMFS is specifically inviting comment on a quantitative yield estimate of OY, realizing that this yield must be less than or equal to MSY.

In accordance with the Magnuson-Stevens Act, NMFS is evaluating the proposed rule to implement Amendment 12 to determine if it is consistent with the FMP, the Magnuson-Stevens Act, and other applicable law. If that determination is affirmative, NMFS will publish the proposed rule in the Federal Register for public review and comment.

NMFS will consider comments received by June 19, 2000, in its decision to approve, disapprove, or partially disapprove the amendment. NMFS will not consider comments received after that date in its decision; NMFS will address all the comments received on Amendment 12 or on its proposed rule in the preamble of the final rule.

Authority: 16 U.S.C. 1801 et seq.

Dated: April 12, 2000.
Bruce C. Morehead,
Acting Director, Office of Sustainable Fisheries, National Marine Fisheries Service.

[FR Doc. 00-9697 Filed 4-18-00; 8:45 am]

BILLING CODE 3510-22-F